DEPARTMENT OF AGRICULTURE

Animal and Plant Health Inspection Service

[Docket No. APHIS-2021-0004]

Notice of Request for Revision to and Extension of Approval of an Information Collection; Control of Chronic Wasting Disease

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the control of chronic wasting disease in farmed and captive cervid herds.

DATES: We will consider all comments that we receive on or before May 4, 2021.

ADDRESSES: You may submit comments by either of the following methods:

• Federal eRulemaking Portal: Go to www.regulations.gov. Enter APHIS-2021-0004 in the Search field. Select the Documents tab, then select the Comment button in the list of documents.

• Postal Mail/Commercial Delivery: Send your comment to Docket No. APHIS-2021-0004, Regulatory Analysis and Development, PPD, APHIS, Station 3A-03.8, 4700 River Road Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations related to the control of chronic wasting disease in farmed or captive cervid herds, contact Dr. Jennifer L. Siembieda, Ruminant Health Center (Cervid Health), Strategy and Policy, Veterinary Services, 2150 Centre Ave, Building B, MS 2E6, Fort Collins, CO 80526-8117; (970) 494-7412; Jennifer.L.Siembieda@usda.gov. For more detailed information on the information collection, contact Mr. Joseph Moxey, APHIS' Information Collection Coordinator, at (301) 851-2533.

SUPPLEMENTARY INFORMATION:

Title: Control of Chronic Wasting Disease.

OMB Control Number: 0579-0189.

Type of Request: Revision to and extension of approval of an information collection.

Abstract: Under the Animal Health Protection Act (7 U.S.C. 8301 et seq.), the Animal and Plant Health Inspection Service (APHIS) of the U.S. Department of Agriculture is authorized, among other things, to protect the health of the United States' livestock and poultry populations by preventing the introduction and interstate spread of serious diseases and pests of livestock and for eradicating such diseases from the United States when feasible.

Chronic wasting disease (CWD) is a transmissible spongiform encephalopathy of cervids (elk, deer, and moose) typified by chronic weight loss leading to death. The presence of CWD in cervids causes significant economic and market losses to U.S. producers. In an effort to control and limit the spread of this disease in the United States, APHIS created a cooperative, voluntary Federal-State-private sector CWD Herd Certification Program designed to identify farmed or captive herds infected with CWD. The program is designed to identify farmed or captive herds infected with CWD and provide for the management of these herds in a way that will reduce the risk of spreading CWD. APHIS' Veterinary Services manages the CWD Herd Certification Program.

Owners of farmed or captive elk, deer, and moose herds who choose to participate in the Herd Certification Program need to follow program requirements for animal identification, testing, herd management, and movement of animals into and from herds. The regulations for this program are in 9 CFR part 55. Part 55 also contains the regulations that authorize the payment of indemnity for the voluntary depopulation of CWD-positive, CWD-exposed, or CWD-suspect captive cervids. APHIS also established requirements in 9 CFR part 81 for the interstate movement of deer, elk, and moose to prevent movement that could pose a risk of spreading CWD.

The Herd Certification Program and the indemnity program entail the use of information collection activities such as an APHIS Veterinary Services appraisal and indemnity claim form; sample collections and laboratory submissions, testing, and reporting; APHIS Veterinary Services State application for chronic wasting disease herd certification program approval, renewal, or reinstatement; memoranda of understanding between APHIS and participating States; herd or premises plans; annual reports; State reviews; epidemiological investigations and reporting of out-of-State traces to affected States; reports of cervid suspects, escapes, disappearances, and deaths; inspections and inventories; a letter to appeal suspension, cancellation, or change in status; farmed, captive, and wild cervid identification; interstate certificates of veterinary inspection; surveillance data; inspection reports; cooperative agreements; laboratory worksheets; and recordkeeping.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 4 hours per response.

Respondents: State animal health officials, laboratories, accredited veterinarians, and businesses managing farmed, captured, or wild cervid herds.

Estimated annual number of respondents: 9,053.

Estimated annual number of responses per respondent: 9.

Estimated annual number of responses: 78,128.

Estimated total annual burden on respondents: 322,546 hours. (Due to averaging, the total annual burden hours may not equal the product of the annual number of responses multiplied by the reporting burden per response.)

All responses to this notice will be summarized and included in the request for OMB approval. All comments will also become a matter of public record.

Done in Washington, DC, this 1st day of March 2021.
Mark Davidson,
Acting Administrator, Animal and Plant Health Inspection Service.

[FR Doc. 2021-04511 Filed 3-4-21; 8:45 am]

BILLING CODE 3410-34-P